DEPARTMENT OF THE INTERIOR

Fish and Wildlife Service

[FWS-R2-R-2009-N196; 20131-1265-2CCP]

Washita and Optima National Wildlife Refuges, Comprehensive Conservation Plan, Custer and Texas Counties, TX

AGENCY: Fish and Wildlife Service, Interior.

ACTION: Notice of availability: Final comprehensive conservation plan and finding of no significant impact for environment assessment.

SUMMARY: We, the U.S. Fish and Wildlife Service (Service), announce the availability of our final comprehensive conservation plan (CCP) and finding of no significant impact (FONSI) and environmental assessment (EA) for the Washita and Optima National Wildlife Refuges (NWRs, Refuges) near Butler, Oklahoma. In this final CCP, we describe how we will guide the development and management of the Washita and Optima NWRs for the next 15 years.

ADDRESSES: You may view or obtain copies of the final CCP and FONSI/EA or request a CD-ROM by any of the following methods:

Agency Web Site: Download a copy of the document(s) at: http://www.fws.gov/southwest/refuges/Plan/planindex.html.

E-mail: jeffrey_missal@fws.gov (include “Washita and Optima NWRs Final CCP” in the subject line of the message).

Mail: Jeffrey Missal, Natural Resource Planner, U.S. Fish and Wildlife, P.O. Box 1306, Albuquerque, NM 87103-1306.

In-Person Viewing or Pickup: Call 505-248-7409 to make an appointment during regular business hours at 500 Gold Street Ave., SW., Albuquerque, NM 87102.

Local Library: The document(s) are also available for review at the library listed under the SUPPLEMENTARY INFORMATION.

FOR FURTHER INFORMATION CONTACT: Jeffrey Missal, 505-248-7409; jeffrey_missal@fws.gov.

SUPPLEMENTARY INFORMATION:

Introduction

With this notice, we finalize the CCP process for Washita and Optima Refuges. We started this process through a notice in the Federal Register (64 FR 62683; November 17, 1999). We released the draft CCP and the EA to the public, announcing and requesting comments in a notice of availability in the Federal Register (72 FR 52903; September 17, 2007).

Washita NWR was established in 1961 as an overlay Refuge on Bureau of Reclamation lands and waters of Foss Reservoir, “[to be] administered by [the Secretary of the Interior] directly or in accordance with cooperative agreements. * * * and in accordance with such rules and regulations for the conservation, maintenance, and management of wildlife, resources, thereof, and its habitat thereon” (Fish and Wildlife Conservation Act; 16 U.S.C. 664), and “for use as an inviolate sanctuary, or for any other management purpose, for migratory birds” (Migratory Bird Conservation Act; 16 U.S.C. 715d). Comprised of the northern portion of Foss Reservoir, adjacent wetlands, uplands, and the Washita River corridor in western Oklahoma, the 8,075-acre Refuge is managed to provide habitat and food for migrating and wintering populations of geese and ducks in the Central Flyway, contributing to conservation of waterfowl resources. The Refuge has also been managed to provide a diversity of habitats for a wide range of migratory bird species, including the whooping crane (Federally listed as endangered), shorebirds, and neotropical migratory birds (i.e., birds that breed in the United States or Canada, but migrate to winter ranges in Mexico, Central America, South America, or the Caribbean Islands). Deer, coyote, bobcat, badger, opossum, and other resident wildlife species thrive on the Refuge as well. Management efforts at Washita Refuge focus on enhancing wetlands and uplands for migratory birds and other wildlife species.

The Optima National Wildlife Refuge was established in 1975 under the authority of the Fish and Wildlife Coordination Act (16 U.S.C. 661-667e, as amended), by agreement between the Department of the Interior and the U.S. Army Corps of Engineers. While the original purpose of the 4,333-acre Refuge was provision of wintering and resting habitat for migratory waterfowl of the Central Flyway, the Refuge provides little habitat for migratory waterfowl due to lower than anticipated water impoundment rates in the Optima Reservoir. The Optima Refuge is currently managed for resident wildlife and migratory birds. The lack of water has reduced the potential for waterfowl management. The Refuge provides an island of largely undisturbed habitat for migratory songbirds and resident species, including white-tailed deer, coyote, Rio Grande turkey, and scaled quail.

We announce our decision and the availability of the final CCP and FONSI for Washita and Optima NWRs in accordance with National Environmental Policy Act (NEPA) (40 CFR 1506.6(b)) requirements. We completed a thorough analysis of impacts on the human environment, which we included in the EA that accompanied the draft CCP.

The CCP will guide us in managing and administering the Washita and Optima Refuges for the next 15 years. Alternative C, as we described in the final CCP, is the foundation for the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including Selected Alternative

Our draft CCP and our EA addressed several issues. Priority issues included depredation of crops on farms adjacent to Washita Refuge by geese attracted to the Refuge, the need for more complete resource inventory of the biological resources of both Refuges, public pressure for additional recreational opportunities on the Refuges, and the difficulty of managing resources on Optima Refuge with no permanent staff on site. To address these priority issues, we developed and evaluated the following alternatives during the planning process.

| A: No-action alternative | B: Custodial no active management | C: Integrated management actions and public use (selected) | D: Maximum habitat management
Issue 1: Depredation | Remain at Current Levels | Depredation Efforts Ceased | Farming continued and reviewed for appropriateness and effectiveness | Farming acreage increased.
Issue 2: Baseline Inventory | Remain at Current Levels | Efforts Ceased | Baseline inventory accomplished | Baseline Inventory Accomplished.
Issue 3: Environmental Education and Community Outreach | Remain at Current Levels | Closed to Public | Hiking trail and visitor center development, educational programs increased | Builds upon Alt. 3 but adds vehicular access, canoe access and wildlife viewing platforms.
Issue 4: Cultural Resources | Remain at Current Levels | Efforts Ceased | Identification and monitoring of existing sites | Conduct a cultural resources survey.
Issue 5: Funding and Staffing | Remain at Current Levels | No Action | Slight to moderate increase | Slight to moderate increase.
Issue 6: Water Management | Remain at Current Levels | Program would be cut | Remain at Current Levels | Remain at Current Levels.
Issue 7: Hunting Opportunity | Waterfowl and Deer | Closed to Public | Evaluation of additional hunting | Evaluation of additional hunting.

Comments

We solicited comments on the draft CCP and the EA for the Washita and Optima NWRs from September 17, 2007, to November 2, 2007 (72 FR 52903). We thoroughly evaluated all received comments and included them in the CCP when possible.

Selected Alternative

After considering the comments we received, we selected Alternative C for implementation. This alternative (now the CCP) describes how habitat objectives will be accomplished through a combination of management activities (farming, moist soil created wetlands, periodic prescribed burning, and mechanical and chemical exotic species control methods) to encourage ecological integrity, promote native prairie restoration, control invasive plant species, and provide/enhance habitat for migratory waterfowl, grassland birds, and other resident wildlife. We selected this alternative because it best meets the purposes and goals of the Washita and Optima NWR Complex. This action will not adversely impact endangered or threatened species or their habitat. Opportunities for wildlife-dependent activities such as observation, photography, environmental education, and interpretation will be enhanced. Future management actions will have a neutral or positive impact on the local economy, and the recommendations in the CCP will ensure that Refuge management is consistent with the mandates of the National Wildlife Refuge System.

Public Availability of Documents

In addition to the methods in ADDRESSES, you can view or obtain documents at the following locations:

• Our Web site: http://www.fws.gov/southwest/refuges/Plan/planindex.html.

• Public Library: Elk City Carnegie Library, located at 221 W. Broadway Ave., Elk City, OK 73644-4741, during regular library hours.

December 15, 2009.
Thomas L. Bauer,
Acting, Regional Director, Region 2.

[FR Doc. 2010-2904 Filed 2-11-10; 8:45 am]

BILLING CODE 4310-55-P